NUCLEAR REGULATORY COMMISSION

[NRC-2025-0009]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by February 20, 2025. A request for a hearing or petitions for leave to intervene must be filed by March 24, 2025. This monthly notice includes all amendments issued, or proposed to be issued, from December 6, 2024, to January 2, 2025. The last monthly notice was published on December 23, 2024.

ADDRESSES: You may submit comments by any of the following methods; however, the NRC encourages electronic comment submission through the Federal rulemaking website.

• Federal Rulemaking Website: Go to https://www.regulations.gov and search for Docket ID NRC-2025-0009. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001; telephone: 301-415-1365; email: Susan.Lent@nrc.gov.

SUPPLEMENTARY INFORMATION:

I. Obtaining Information and Submitting Comments

A. Obtaining Information

Please refer to Docket ID NRC-2025-0009, facility name, unit number(s), docket number(s), application date, and subject when contacting the NRC about the availability of information for this action. You may obtain publicly available information related to this action by any of the following methods:

• Federal Rulemaking Website: Go to https://www.regulations.gov and search for Docket ID NRC-2025-0009.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0009, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Florida Power & Light Company, et al.; St. Lucie Plant, Unit No. 2; St. Lucie County, FL
Docket No | 50-389.
Application date | November 26, 2024.
ADAMS Accession No | ML24331A249.
Location in Application of NSHC | Pages 12-15 of Enclosure 1.
Brief Description of Amendment | The proposed license amendment would revise the St. Lucie Plant, Unit No. 2, Technical Specification 5.5.16, “Surveillance Frequency Control Program,” to increase certain surveillance requirement frequencies to support a 24-month fuel cycle. The proposed modification to the Surveillance Frequency Control Program would permit affected surveillance requirement frequency increases in accordance with NRC Generic Letter 91-04, “Changes in Technical Specification Surveillance Intervals to Accommodate a 24-Month Fuel Cycle,” dated April 2, 1991.
Proposed Determination | NSHC.
Name of Attorney for Licensee, Mailing Address | James Petro, Managing Attorney—Nuclear, Florida Power & Light Company 700 Universe Boulevard, MS LAW/JB, Juno Beach, FL 33408-0420.
NRC Project Manager, Telephone Number | Natreon Jordan, 301-415-7410.
Northern States Power Company; Monticello Nuclear Generating Plant; Wright County, MN
Docket No | 50-263.
Application date | October 21, 2024.
ADAMS Accession No | ML24327A157.
Location in Application of NSHC | Pages 2-5 of the Enclosure.
Brief Description of Amendment | The proposed amendment would revise the Monticello Nuclear Generating Plant technical specification (TS) actions applicable when a residual heat removal (RHR) shutdown cooling subsystem is inoperable and provide a TS exception to entering Mode 4 if both required RHR shutdown cooling subsystems are inoperable. The proposed changes are consistent with Technical Specification Task Force (TSTF) Traveler TSTF-566, “Revise Actions for Inoperable RHR Shutdown Cooling Subsystems,” and Traveler TSTF-580, Revision 1, “Provide Exception from Entering Mode 4 with No Operable RHR Shutdown Cooling.”
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
Susquehanna Nuclear, LLC and Allegheny Electric Cooperative, Inc.; Susquehanna Steam Electric Station, Units 1 and 2; Luzerne County, PA
Docket Nos | 50-387, 50-388.
Application date | November 1, 2024.
ADAMS Accession No | ML24306A122.
Location in Application of NSHC | Pages 113-117 of Attachment 1.
Brief Description of Amendments | The proposed amendments would revise technical specifications (TS) for the Susquehanna Steam Electric Station, Units 1 and 2. Specifically, the proposed amendments would modify the primary containment leak rate testing program TS by allowing: increasing the integrated leak rate test program interval; extending test intervals for Type A, B, and C leakage rate tests; extending the drywell-to-suppression chamber bypass leak rate test frequency; extending the frequency of containment isolation valve leakage rate testing; and, using American National Standards Institute/American Nuclear Society Standard 56.8-2020, “Containment System Leakage Testing Requirements.” The proposed amendments to the TS would also replace certain guidance document references and delete information regarding the performance of tests that have been successfully performed.
Proposed Determination | NSHC.
Name of Attorney for Licensee, Mailing Address | Jason Usher, 600 Hamilton Street, Suite 600, Allentown, PA 18101.
NRC Project Manager, Telephone Number | Audrey Klett, 301-415-0489.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Application date | November 4, 2024.
ADAMS Accession No | ML24309A061.
Location in Application of NSHC | Pages E19 and E20 of Enclosure.
Brief Description of Amendments | The proposed amendments would revise some definitions in Sequoyah Nuclear Plant, Units 1 and 2, and Watts Bar Nuclear Plant, Units 1 and 2, Technical Specification (TS) 1.1, “Definitions,” and add new TS 5.5.19, “Online Monitoring Program,” (Sequoyah) and TS 5.7.2.24, “Online Monitoring Program” (Watts Bar), to permit the use of an NRC-approved online monitoring (OLM) methodology as the technical basis to switch from time-based surveillance frequency for channel calibrations to a condition-based calibration frequency based on OLM results.
Proposed Determination | NSHC.
Name of Attorney for Licensee, Mailing Address | David Fountain, Executive VP and General Counsel, Tennessee Valley Authority, 400 West Summit Hill Drive, WT 6A-K, Knoxville, TN 37902.
NRC Project Manager, Telephone Number | Kimberly Green, 301-415-1627.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Application date | November 12, 2024.
ADAMS Accession No | ML24317A243.
Location in Application of NSHC | Pages E9-E11 of the Enclosure.
Brief Description of Amendments | The proposed amendments would revise Sequoyah Nuclear Plant, Units 1 and 2, and Watts Bar Nuclear Plant, Units 1 and 2, Technical Specification Limiting Condition of Operation 3.5.2, “ECCS [emergency core cooling system]—Operating,” Note 1, to include the residual heat removal pump flow paths in order to optimize surveillance testing.
Proposed Determination | NSHC.
Name of Attorney for Licensee, Mailing Address | David Fountain, Executive VP and General Counsel, Tennessee Valley Authority, 400 West Summit Hill Drive, WT 6A-K, Knoxville, TN 37902.
NRC Project Manager, Telephone Number | Kimberly Green, 301-415-1627.
Union Electric Company; Callaway Plant, Unit No. 1; Callaway County, MO
Docket No | 50-483.
Application date | December 5, 2024.
ADAMS Accession No | ML24340A175 (Package).
Location in Application of NSHC | Pages 1-3 of the Enclosure.
Brief Description of Amendment | The proposed amendment would adopt Technical Specifications Task Force (TSTF) Traveler, TSTF-591, “Revise Risk Informed Completion Time (RICT) Program,” which is an approved change to the Standard Technical Specifications, into the Callaway Plant, Unit No. 1 Technical Specifications (TSs). TSTF-591 revises TS Section 5.5, “Programs and Manuals,” “Risk Informed Completion Time Program,” to reference Regulatory Guide 1.200, Revision 3, instead of Revision 2, and to make other changes. Also, a new report is added to TS Section 5.6, “Reporting Requirements,” to inform the NRC of newly developed methods used to Calculate RICTs.
Proposed Determination | NSHC.
Name of Attorney for Licensee, Mailing Address | Jay E. Silberg, Pillsbury Winthrop Shaw Pittman LLP, 1200 17th St. NW, Washington, DC 20036.
NRC Project Manager, Telephone Number | Mahesh Chawla, 301-415-8371.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Braidwood Station, Units 1 and 2, Will County, IL; Byron Station, Unit Nos. 1 and 2, Ogle County, IL; Constellation Energy Generation, LLC; Calvert Cliffs Nuclear Power Plant, Units 1 and 2; Calvert County, MD; Constellation Energy Generation, LLC; Clinton Power Station, Unit No. 1; DeWitt County, IL; Constellation Energy Generation, LLC; LaSalle County Station, Units 1 and 2; LaSalle County, IL; Constellation Energy Generation, LLC; Limerick Generating Station, Units 1 and 2; Montgomery County, PA; Constellation Energy Generation, LLC; Peach Bottom Atomic Power Station, Units 2 and 3; York County, PA; Constellation Energy Generation, LLC; R.E. Ginna Nuclear Power Plant; Wayne County, New York; Constellation FitzPatrick, LLC and Constellation Energy Generation, LLC; James A. FitzPatrick Nuclear Power Plant; Oswego County, NY; Nine Mile Point Nuclear Station, LLC and Constellation Energy Generation, LLC; Nine Mile Point Nuclear Station, Units 1 and 2; Oswego County, NY
Docket Nos | 50-456, 50-457, 50-454, 50-455, 50-317, 50-318, 50-461, 50-333, 50-373, 50-374, 50-352, 50-353, 50-220, 50-410, 50-277, 50-278, 50-244.
Amendment Date | December 18, 2024.
ADAMS Accession No | ML24339B729.
Amendment Nos | Braidwood 236 (Units 1 and 2); Byron 235 (Units 1 and 2); Calvert Cliffs 351 (Unit 1), 328 (Unit 2); Clinton 255; FitzPatrick 359; LaSalle 264 (Unit 1), 249 (Unit 2); Limerick 265 (Unit 1), 227 (Unit 2); Nine Mile 254 (Unit 1), 198 (Unit 2); Peach Bottom 345 (Unit 2), 348 (Unit 3); R.E. Ginna 157.
Brief Description of Amendments | The amendments revised the technical specifications (TSs) for each facility in accordance with Technical Specifications Task Force (TSTF) Traveler TSTF-591, Revision 0, “Revise Risk-Informed Completion Time (RICT) Program.” A new report is added to inform the NRC of newly developed methods used to calculate a RICT. Additionally, the amendments removed certain facility's Facility Operating License condition sections associated with the implementation of 10 CFR 50.69, “Risk-informed categorization and treatment of structures, systems and components for nuclear power reactors,” and RICT programs.
Public Comments Received as to Proposed NSHC (Yes/No) | No.
Florida Power & Light Company; Turkey Point Nuclear Generating Unit Nos. 3 and 4; Miami-Dade County, FL
Docket Nos | 50-250, 50-251.
Amendment Date | December 11, 2024.
ADAMS Accession No | ML24319A294.
Amendment Nos | 299 (Unit 3); 292 (Unit 4).
Brief Description of Amendments | The amendments revised the Turkey Point Nuclear Generating, Unit Nos. 3 and 4, technical specifications (TS) by incorporating changes to TS 3.7.13, “Fuel Storage Pool Boron Concentration,” TS 3.7.14, “Spent Fuel Storage,” and TS 4.3, “Fuel Storage,” to allow for an updated spent fuel pool criticality safety analysis that accounts for the impact on the spent fuel from a proposed transition to 24-month fuel cycles.
Public Comments Received as to Proposed NSHC (Yes/No) | No.
Indiana Michigan Power Company: Donald C. Cook Nuclear Plant, Unit Nos. 1 and 2; Berrien County, MI
Docket Nos | 50-315, 50-316.
Amendment Date | December 18, 2024.
ADAMS Accession No | ML24297A130.
Amendment Nos | 364 (Unit 1); 345 (Unit 2).
Brief Description of Amendments | The amendments revised Technical Specification (TS) 3.3.3, “Post Accident Monitoring (PAM) Instrumentation” to not require environmental qualification to be maintained for TS 3.3.3, Function 1, Neutron Flux, instrumentation.
Public Comments Received as to Proposed NSHC (Yes/No) | No.
Northern States Power Company; Monticello Nuclear Generating Plant; Wright County, MN
Docket No | 50-263.
Amendment Date | December 19, 2024.
ADAMS Accession No | ML24270A155.
Amendment No | 213.
Brief Description of Amendment | The amendment replaced the current neutron fluence methodology with a newer methodology and revised the technical specifications to update the methodology for developing a pressure temperature limits report.
Public Comments Received as to Proposed NSHC (Yes/No) | No.
Pacific Gas and Electric Company; Diablo Canyon Nuclear Power Plant, Units 1 and 2; San Luis Obispo County, CA
Docket Nos | 50-275, 50-323.
Amendment Date | December 11, 2024.
ADAMS Accession No | ML24269A083.
Amendment Nos | 247 (Unit 1) and 249 (Unit 2).
Brief Description of Amendments | The amendments allowed the implementation of 10 CFR 50.69, “Risk-informed categorization and treatment of structures, systems and components for nuclear power reactors.” The provisions in 10 CFR 50.69 allows adjustment of the scope of structures, systems, and components (SSCs) subject to special treatment requirements (e.g., quality assurance, testing, inspection, condition monitoring, assessment, and evaluation) based on an integrated, systematic, risk-informed process for categorizing SSCs according to their safety significance.
Public Comments Received as to Proposed NSHC (Yes/No) | No.
Southern Nuclear Operating Company, Inc.; Edwin I. Hatch Nuclear Plant, Unit Nos. 1 and 2; Appling County, GA
Docket Nos | 50-321, 50-366.
Amendment Date | December 9, 2024.
ADAMS Accession No | ML24281A097.
Amendment Nos | 323 (Unit 1), 268 (Unit 2).
Brief Description of Amendments | The amendments revised Technical Specification (TS) Surveillance Requirement (SR) 3.4.3.1 to increase the nominal mechanical relief setpoints for all safety/relief valves (S/RVs) of the reactor coolant system nuclear pressure relief system. These changes will reduce the potential for S/RV pilot leakage. As a result of the increased S/RV setpoints, the amendments also revised SR 3.1. 7. 7 to increase the minimum Standby Liquid Control pump discharge pressure accordingly.
Public Comments Received as to Proposed NSHC (Yes/No) | No.
Southern Nuclear Operating Company, Inc.; Edwin I. Hatch Nuclear Plant, Unit Nos. 1 and 2; Appling County, GA
Docket Nos | 50-321, 50-366.
Amendment Date | December 20, 2024.
ADAMS Accession No | ML24312A367.
Amendment Nos | 324 (Unit 1), 269 (Unit 2).
Brief Description of Amendments | The amendments revised the Edwin I. Hatch Nuclear Plant, Unit Nos. 1 and 2, Technical Specification (TS) requirements related to Completion Times (CTs) for Required Actions to provide the option to calculate a longer, risk-informed CT (RICT) for the condition of one pump inoperable for TS 3.7.1, “Residual Heat Removal Service Water (RHRSW) System,” and for TS 3.7.2, “Plant Service Water (PSW) System and Ultimate Heat Sink (UHS).” Additionally, the amendments also made corresponding revisions to TS 5.5.16, “Risk Informed Completion Time Program,” and to TS 1.3, “Completion Times,” Example 1.3-8.
Public Comments Received as to Proposed NSHC (Yes/No) | No.
Southern Nuclear Operating Company, Inc.; Joseph M. Farley Nuclear Plant, Units 1 and 2; Houston County, AL; Southern Nuclear Operating Company, Inc.; Vogtle Electric Generating Plant, Units 1 and 2; Burke County, GA
Docket Nos | 50-364, 50-348, 50-424, 50-425.
Amendment Date | December 20, 2024.
ADAMS Accession No | ML24330A123.
Amendment Nos | Farley 251 (Unit 1), 248 (Unit 2), Vogtle 226 (Unit 1), 208 (Unit 2).
Brief Description of Amendments | For Farley, Units 1 and 2, and Vogtle, Units 1 and 2, the amendments revised the Technical Specifications (TSs) to adopt Technical Specification Task Force (TSTF)-589, “Eliminate Automatic Diesel Generator Start During Shutdown,” which is an approved change to the Standard Technical Specifications, into the Farley, Units 1 and 2, and the Vogtle, Units 1 and 2, TSs. TSTF-589 eliminates the TS requirements for automatic diesel generator (DG) start and loading during shutdown. The revised amendments eliminate the TS requirements for the automatic DG start and loading capability to be OPERABLE during shutdown and modifies which DG surveillance requirements are required during shutdown.
Public Comments Received as to Proposed NSHC (Yes/No) | No.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket Nos | 50-259, 50-260, 50-296, 50-327, 50-328, 50-390, and 50-391.
Amendment Date | December 23, 2024.
ADAMS Accession No | ML24312A322.
Amendment Nos | Browns Ferry 334 (Unit 1), 357 (Unit 2), 317 (Unit 3); Sequoyah 368 (Unit 1), 362 (Unit 2); Watts Bar 172 (Unit 1), 77 (Unit 2).
Brief Description of Amendments | The amendments revised Browns Ferry Nuclear Plant, Units 1, 2, and 3, and Sequoyah Nuclear Plant, Units 1 and 2, Technical Specification (TS) 5.4, “Procedures,” and Watts Bar Nuclear Plant, Units 1 and 2, TS 5.7.1, “Procedures,” to remove the revision number for Regulatory Guide 1.33 , “Quality Assurance Program Requirements (Operation),” and replace it with a reference to the revision that is specified in the Tennessee Valley Authority Nuclear Quality Assurance Plan.
Public Comments Received as to Proposed NSHC (Yes/No) | No.
Tennessee Valley Authority; Watts Bar Nuclear Plant, Unit 1; Rhea County, TN
Docket No | 50-390.
Amendment Date | December 23, 2024.
ADAMS Accession No | ML24312A005.
Amendment No | 171.
Brief Description of Amendment | The amendment revised the expiration date of the Watts Bar Nuclear Plant, Unit 1, Facility Operating License No. NPF-90 to be 40 years from the date that the full-power operating license was issued, rather than the date that the low-power license was issued. The Facility Operating License will now expire at midnight on February 7, 2036.
Public Comments Received as to Proposed NSHC (Yes/No) | No.
Tennessee Valley Authority; Watts Bar Nuclear Plant, Units 1 and 2; Rhea County, TN
Docket Nos | 50-390, 50-391.
Amendment Date | December 17, 2024.
ADAMS Accession No | ML24285A207.
Amendment Nos | 170 (Unit 1); 76 (Unit 2).
Brief Description of Amendments | The amendments revised Watts Bar Nuclear Plant, Units 1 and 2, technical specifications 2.0, 3.0, 3.1, 3.2, 3.3, 3.4, and 5.9.5 by adopting various Technical Specifications Task Force travelers.
Public Comments Received as to Proposed NSHC (Yes/No) | No.
General Electric Hitachi; Vallecitos Boiling Water Reactor, Alameda County, CA
Docket No | 50-18.
Amendment Date | November 27, 2024.
ADAMS Accession No | ML24348A094 (Package).
Amendment No | 22.
Brief Description of Amendment | The NRC reviewed an application submitted by General Electric Hitachi (GEH) on September 7, 2023, as supplemented on September 15, 2023, October 31, 2023, and March 25, 2024, to amend Facility License No. DPR-1. The application sought approval of a License Termination Plan (LTP) to support termination of Facility License No. DPR-1. The NRC prepared a safety evaluation report to document its review and evaluation of the amendment request. Also, in connection with this action, the NRC prepared an environmental assessment (EA) and a finding of no significant impact (FONSI). The notice of availability of the EA and FONSI for the VBWR was published in the Federal Register on October 16, 2024 (89 FR 83521). Upon completing its review, the NRC staff determined that the request complies with the standards and requirements of the Atomic Energy Act of 1954, as amended, as well as the NRC's rules and regulations. The NRC approved the LTP and issued Amendment No. 22 to Facility License No. DPR-1 on November 27, 2024.
Public Comments Received as to Proposed NSHC (Yes/No) | No.

Dated: January 6, 2025.
For the Nuclear Regulatory Commission.
Jamie Pelton,
Acting Director, Division of Operating Reactor Licensing, Office of Nuclear Reactor Regulation.

[FR Doc. 2025-00444 Filed 1-17-25; 8:45 am]

BILLING CODE 7590-01-P